FEDERAL COMMUNICATIONS COMMISSION

[Report No. 2918]

Petitions for Reconsideration of Action in Rulemaking Proceeding

September 23, 2010.

Petitions for Reconsideration have been filed in the Commission's Rulemaking proceeding listed in this Public Notice and published pursuant to 47 CFR 1.429(e). The full text of these documents is available for viewing and copying in Room CY-B402, 445 12th Street, SW., Washington, DC or may be purchased from the Commission's copy contractor, Best Copy and Printing, Inc. (BCPI) (1-800-378-3160). Oppositions to these petitions must be filed by November 1, 2010. See Section 1.4(b)(1) of the Commission's rules (47 CFR 1.4(b)(1). Replies to oppositions must be filed within 10 days after the time for filing oppositions have expired.

Subject: In the Matter of Implementation of Section 224 of the Act (WC Docket No. 07-245)

A National Broadband Plan for our Future (GN Docket No. 09-51).

Number of Petitions Filed: 4.

Marlene H. Dortch,
Secretary.

[FR Doc. 2010-26059 Filed 10-14-10; 8:45 am]

BILLING CODE 6712-01-P